DEPARTMENT OF THE INTERIOR

Bureau of Land Management

[19X LLUTG01000 L13110000.EJ0000]

Notice of Termination of the Greater Chapita Wells Natural Gas Infill Project for EOG Resources, Inc.'s Federal and Tribal Well Development Project, Uintah County, Utah

AGENCY: Bureau of Land Management, Interior.

ACTION: Notice of Termination.

SUMMARY: In accordance with the National Environmental Policy Act (NEPA), on September 9, 2009, the Bureau of Land Management (BLM) Vernal Field Office issued a Notice of Intent to prepare an Environmental Impact Statement (EIS) for the proposed Greater Chapita Wells Natural Gas Infill Project in Uintah County, Utah. The Notice of Intent announced the beginning of the scoping process for solicitation of input on the identification of issues and evaluation of the effects of the proposed development by EOG Resources, Inc. On March 9, 2018, the BLM issued a Notice of Availability of the draft EIS for Greater Chapita Wells Natural Gas Infill Project in Uintah County, Utah. On June 18, 2018, EOG Resources, Inc. withdrew their proposed action. In order to close out the record, the BLM responded to all comments on the Draft EIS and the solicitors completed their final review on November 26, 2019. The BLM is terminating the EIS process and issuing this Notice of Termination.

DATES: Termination of the EIS process for the proposed Greater Chapita Wells Natural Gas Infill Project in Uintah County, Utah, is effective immediately.

FOR FURTHER INFORMATION CONTACT: Stephanie Howard, Project Manager, 170 S. 500 E., Vernal, Utah 84078, (435) 781-4469. Persons who use a telecommunications device for the deaf may call the Federal Relay Service (FRS) at 1-800-877-8339 to leave a message or question for the above individual. The FRS is available 24 hours a day, 7 days a week. Replies are provided during normal business hours.

SUPPLEMENTARY INFORMATION: The proposed project area consisted of approximately 43,000 acres in the Chapita gas field with more than 1,200 existing wells. The proposal included drilling approximately 2,800 gas wells, primarily on existing pads, on lands owned by the United States, the State of Utah, the Ute Indian Tribe, tribal allottees, and private parties. In accordance with their June 18, 2018 request, the BLM is terminating the EIS process in compliance with BLM Manual Handbook H-1790-1 Section 9.8 and 40 CFR1500.1 (c) and 40 CFR1500.1 (d).

Authority: 40 CFR 1506.6, 40 CFR 1506.10.

Anita Bilbao,
Acting State Director.

[FR Doc. 2020-05321 Filed 3-13-20; 8:45 am]

BILLING CODE 4310-DQ-P